DEPARTMENT OF HOUSING AND URBAN DEVELOPMENT

[Docket No. FR-5146-N-01]

Notice of Proposed Information Collection: Comment Request; Employee Questionnaire and Complaint Intake

AGENCY: Office of Departmental Operations and Coordination, Office of Labor Relations, HUD.

ACTION: Notice.

SUMMARY: The proposed information collection requirement described below will be submitted to the Office of Management and Budget (OMB) for review, as required by the Paperwork Reduction Act. The Department is soliciting public comments on the subject proposal.

DATES: Comments Due Date: June 15, 2007.

ADDRESSES: Interested persons are invited to submit comments regarding this proposal. Comments should refer to the proposal by name and/or OMB Control Number and should be sent to: Lillian Deitzer, Reports Management Officer, Department of Housing and Urban Development, 451 7th Street, SW., Room 4178, Washington, DC 20410 or Lillian_L._Deitzer@hud.gov.

FOR FURTHER INFORMATION CONTACT: Jade Banks, Senior Policy Advisor, Office of Labor Relations, Department of Housing and Urban Development, 451 7th Street, SW., Room 2102, Washington, DC 20410 or Jade_M._Banks@hud.gov, telephone (202) 402-5475 (this is not a toll-free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Employee Questionnaire and Complaint Intake.

OMB Control Number, if applicable: 2501-0018.

Description of the need for the information and proposed use: HUD and local agencies administering HUD-assisted programs must enforce Federal wage and reporting requirements on covered HUD-assisted construction and maintenance work. Enforcement activities include contacting laborers and mechanics and requesting information about their employment on covered projects. In addition, HUD and local agencies may be contacted by the workers or by others who wish to file a complaint of labor standards violation(s). HUD and local agencies have used many formats to collect worker information and to record complainant information. HUD proposes to standardize and institute two forms for these collections: an employee questionnaire (in English, Spanish, and electronic versions) and a complaint intake form. The questionnaire may be mailed to employees or may be otherwise provided to them to complete and return to HUD or the local agency. The questionnaire is also available on-line through HUD's Web site. This version can be completed on-screen for electronic submission or it can be printed for hard-copy submission. Complaint intake forms will be used by HUD and local agency personnel to record information provided by complainants about the nature of the alleged violation(s). Both forms may be supplemented with additional pages, as needed. Responses and the provision of supplemental information are voluntary on the part of questionnaire respondents. Questionnaire responses and complaint intake forms must be retained by the HUD and local agencies to document the sufficiency of enforcement efforts.

Agency form numbers, if applicable: Forms HUD-4730, HUD-4370E, HUD-4370SP; and HUD-4731.

Estimation of the total numbers of hours needed to prepare the information collection including number of respondents, frequency of response, and hours of response:

Item | Number of respondents | Amount of time required (hours) | Total time required (in hrs.)/annum
HUD-4730 (including 4730E and 4730SP) | 2,000 | .25-.5 | 500-1,000
HUD-4731 | 500 | .25-.5 | 125-250
Record keeping | 2,500 | 1 | 2,500
Total Annual Burden |  |  | 3,125-3,750

Status of the proposed information collection: Extension of a currently approved collection.

Authority: The Paperwork Reduction Act of 1995, 44 U.S.C., Chapter 35, as amended.

Dated: April 9, 2007.
Edward L. Johnson,
Director, Office of Labor Relations.

[FR Doc. E7-7091 Filed 4-13-07; 8:45 am]

BILLING CODE 4210-67-P